DEPARTMENT OF THE INTERIOR

Bureau of Ocean Energy Management

[MMAA104000]

Extension of Post-Sale Evaluation Period for Central Gulf of Mexico Planning Area Lease Sale 227

AGENCY: Bureau of Ocean Energy Management (BOEM), Interior.

ACTION: Notice to Extend Post-Sale Evaluation Period.

SUMMARY: This notice extends through July 18, 2013, the post-sale evaluation period for Central Gulf of Mexico Planning Area Lease Sale 227. BOEM will complete the evaluation process for all bids received in this sale by July 18, 2013. This action is necessary due to resource limitations resulting from sequestration. BOEM is unable to pay overtime to expedite the bid review process, including the incorporation of increased volumes of reprocessed proprietary datasets used by bidders to formulate their bid submittals.

DATES: The post-sale evaluation period for this sale will conclude on July 18, 2013.

SUPPLEMENTARY INFORMATION: In connection with the Central Gulf of Mexico Lease Sale 227, held March 20, 2013, BOEM received 407 bids on 320 tracts. On April 3, 2013, BOEM accepted the high bids on 42 tracts and passed the bids on another 278 tracts to Phase 2 of the post-sale evaluation period for detailed evaluation. As of Friday, May 31, 2013, BOEM had completed the evaluation and deemed acceptable the high bids offered on 163 of the tracts passed to Phase 2. BOEM is continuing the bid evaluation process for the remaining 115 tracts.

As a result of these circumstances, BOEM requires additional time to complete the bid review process, originally scheduled to conclude within 90 days following the Sale 227 sale date, that is, by June 18, 2013. Under the provisions of 30 CFR § 556.47(e)(2), BOEM is extending the bid evaluation period until July 18, 2013.

FOR FURTHER INFORMATION CONTACT: David Cooke, Regional Supervisor, Office of Resource Evaluation, Gulf of Mexico Region, telephone 504-736-2710.

Dated: June 11, 2013.
Walter D. Cruickshank,
Deputy Director, Bureau of Ocean and Energy Management.

[FR Doc. 2013-14426 Filed 6-17-13; 8:45 am]

BILLING CODE 4310-MR-P